DEPARTMENT OF TRANSPORTATION

Federal Aviation Administration

14 CFR Part 39

[Docket No. FAA-2025-0611; Project Identifier MCAI-2024-00763-T; Amendment 39-23243; AD 2026-02-07]

RIN 2120-AA64

Airworthiness Directives; Airbus SAS Airplanes

AGENCY: Federal Aviation Administration (FAA), DOT.

ACTION: Final rule.

SUMMARY: The FAA is adopting a new airworthiness directive (AD) for all Airbus SAS Model A350-941 and -1041 airplanes. This AD was prompted by reports that certain lower torque links of the nose landing gear (NLG) were manufactured without bright shot peening; the omission of bright shot peening could result in reduced fatigue life of the parts. This AD requires replacement of affected parts before exceeding their reduced life limit and limits the installation of affected parts. The FAA is issuing this AD to address the unsafe condition on these products.

DATES: This AD is effective March 9, 2026.

The Director of the Federal Register approved the incorporation by reference of certain publications listed in this AD as of March 9, 2026.

ADDRESSES:

AD Docket: You may examine the AD docket at regulations.gov under Docket No. FAA-2025-0611; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Airbus material identified in this AD, contact Airbus SAS, Airworthiness Office—EAL, Rond-Point Emile Dewoitine No: 2, 31700 Blagnac Cedex, France; telephone +33 5 61 93 36 96; fax +33 5 61 93 45 80; email continued-airworthiness.a350@airbus.com; website airbus.com.

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0611.

FOR FURTHER INFORMATION CONTACT: Nicholas Benson, Aviation Safety Engineer, FAA, 2200 South 216th St., Des Moines, WA 98198; phone: 206-231-3647; email: nicholas.h.benson@faa.gov.

SUPPLEMENTARY INFORMATION:

Background

The FAA issued a notice of proposed rulemaking (NPRM) to amend 14 CFR part 39 by adding an AD that would apply to all Airbus SAS Model A350-941 and -1041 airplanes. The NPRM was published in the Federal Register on April 7, 2025 (90 FR 14920). The NPRM was prompted by AD 2024-0248, dated December 18, 2024 (EASA AD 2024-0248) (also referred to as the MCAI), issued by EASA, which is the Technical Agent for the Member States of the European Union. The MCAI states that it has been reported that certain NLG lower torque links were manufactured without bright shot peening. The omission of bright shot peening may reduce the fatigue life of the component, depending on which weight variant and NLG standard the component is installed on. This condition, if not corrected, could lead to failure of the NLG, possibly resulting in damage to the airplane and injury to occupants.

In the NPRM, the FAA proposed to require replacement of affected parts before exceeding their reduced life limit and limit the installation of affected parts, as specified in EASA AD 2024-0248. The FAA is issuing this AD to address the unsafe condition on these products.

You may examine the MCAI in the AD docket at regulations.gov under Docket No. FAA-2025-0611.

Discussion of Final Airworthiness Directive

Comments

The FAA received comments from the Airline Line Pilots Association, International (ALPA) who supported the NPRM without change.

The FAA received additional comments from Delta Airlines (Delta). The following presents the comments received on the NPRM and the FAA's response to each comment.

Request To Clarify Compliance Time

Delta requested clarification regarding the compliance time for operators to implement the new life limits. Delta stated that paragraph (1) of EASA AD 2024-0248 identifies the limit for when the affected parts must be replaced but does not specify how long operators have to implement the new life limits. Delta noted, in contrast, all EASA ADs pertaining to Airworthiness Limitations Section (ALS) Part 1 allow 12 months to implement the new life limits, and the corresponding FAA ADs specify implementing all limits within 90 days after the effective date of the AD.

The FAA notes that this AD does not require operators to revise their existing maintenance or inspection program to incorporate the reduced safe life limits for the affected parts. Instead, this AD requires replacing an affected part before it exceeds the reduced safe life limit. Since the FAA has not identified any affected parts that are close to exceeding the reduced life limits, it is not necessary to provide a 90-day compliance time for their incorporation. The FAA has not changed this AD in this regard.

Request To Omit Clearance Check if Replacement Is Done During NLG Overhaul

Delta requested that the FAA add an exception to paragraph (h) of the proposed AD to specify if the affected lower torque link is replaced during NLG overhaul by the appropriate vendor, then a clearance check is not required, as specified in paragraph 3.E of the Accomplishment Instructions of the service information referenced in EASA AD 2024-0248. Delta noted that the clearance check is identified in the service information as required for compliance. However, Delta stated that replacement of the affected part will be performed during NLG overhaul and therefore the clearance check is not needed.

The FAA disagrees with the request. If replacement of the lower torque link is accomplished while the NLG is off the airplane, the clearance check is required after the NLG is re-installed on the airplane. However, under the provisions of paragraph (i)(1) of this AD, the FAA will consider requests for AMOCs. The FAA has not changed this AD in this regard.

Request To Clarify Part Number (P/N) Definition for Component and Assembly

Delta requested that the FAA add an exception to paragraph (h) of the proposed AD to include the following clarification to the definition of “Affected parts”: Lower torque link component P/N 5035-0401 (FIN 6010GN) is the main part of lower torque link assembly P/N 5035A0400-01 (FIN 5011GN). Delta stated that EASA AD 2024-0248 requires replacement of NLG lower torque link component P/N 5035-0401 as referenced in Airbus Service Bulletin A350-32-P057, Revision 01, dated December 12, 2024 (Revision 01 of Airbus Service Bulletin A350-32-P057), but the component is a non-procurable part and therefore does not appear in the component maintenance manual (CMM) for shock strut assembly P/N 4816A0000-06 or the CMM for shock strut assembly P/N 6406A0000-01. Delta noted that the proposed AD does not address this concern.

The FAA disagrees with the request. Clarification is not needed because the Accomplishment Instructions of Revision 01 of Airbus Service Bulletin A350-32-P057 specify that the NLG lower torque link component (FIN 6010GN) is a subcomponent of lower torque link assembly (FIN 5011GN) to distinguish between NLG lower torque link component (FIN 6010GN) P/N 5035-0401 and lower torque link assembly (FIN 5011GN), and the “Life Limitations of the Affected Nose Landing Gear (NLG) Lower Torque Link Component” table in Appendix B identifies lower torque link component 6010GN as P/N 5035-0401. Further, the FAA notes that replacing the lower torque link assembly (FIN 6010GN) would constitute replacement of the affected part. The FAA has not changed this AD in this regard.

Request To Correct the Sliding Piston Assembly Part Number

Delta requested that the FAA add an exception to paragraph (h) of the proposed AD to correct the NLG sliding piston assembly part number referenced in flagnote 01 in Appendix B of Revision 01 of Airbus Service Bulletin A350-32-P057. Delta stated that service information references incorrect P/N 64072000-XX. Delta noted the CMM for shock strut assembly P/N 6406A0000-01 identifies the sliding piston assembly part number as P/N 6407A2000-XX, and that Airbus acknowledged the error in Revision 01 of Airbus Service Bulletin A350-32-P057 via a TechRequest message with Delta.

The FAA agrees that P/N 6407A2000-XX is correct, as specified in Airbus Service Bulletin A350-32-P057, dated September 30, 2024. Accordingly, the FAA has added a new exception in paragraph (h)(4) of this AD to correct the part number in Revision 01 of Airbus Service Bulletin A350-32-P057.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed EASA AD 2024-0248, which specifies procedures for replacement of NLG lower torque links identified with P/N 5035-0401 and certain serial numbers before exceeding their reduced life limit. EASA AD 2024-0248 also limits installation of affected parts. The FAA also reviewed Airbus Service Bulletin A350-32-P057, Revision 01, dated December 12, 2024, which specifies procedures for an inspection or records check to determine if an affected part is installed, replacement of an affected part with a serviceable part, and applicable clearance check.

This material is reasonably available because the interested parties have access to it through their normal course of business or by the means identified in the ADDRESSES section.

Costs of Compliance

The FAA estimates that this AD affects 34 airplanes of U.S. registry. The FAA estimates the following costs to comply with this AD:

Estimated Costs for Required Actions
Labor cost | Parts cost | Cost per product | Cost on U.S. operators
9 work-hours × $85 per hour = $765 | $28,000 | $28,765 | $978,010

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-02-07 Airbus SAS: Amendment 39-23243; Docket No. FAA-2025-0611; Project Identifier MCAI-2024-00763-T.

(a) Effective Date

This airworthiness directive (AD) is effective March 9, 2026.

(b) Affected ADs

None.

(c) Applicability

This AD applies to all Airbus SAS Model A350-941 and -1041 airplanes, certificated in any category.

(d) Subject

Air Transport Association (ATA) of America Code 32, Landing Gear.

(e) Unsafe Condition

This AD was prompted by reports that certain lower torque links of the nose landing gear (NLG) were manufactured without bright shot peening; the omission of bright shot peening could result in reduced fatigue life of the parts. The FAA is issuing this AD to address omitted bright shot peening. The unsafe condition, if not addressed, could lead to failure of the nose landing gear, possibly resulting in damage to the airplane and injury to occupants.

(f) Compliance

Comply with this AD within the compliance times specified, unless already done.

(g) Requirements

Except as specified in paragraph (h) of this AD: Comply with all required actions and compliance times specified in, and in accordance with, European Union Aviation Safety Agency (EASA) AD 2024-0248, dated December 18, 2024 (EASA AD 2024-0248).

(h) Exceptions to EASA AD 2024-0248

(1) Where EASA AD 2024-0248 refers to its effective date, this AD requires using the effective date of this AD.

(2) Where EASA AD 2024-0248 defines a serviceable part as “Any NLG Lower Torque Link eligible for installation in accordance with Airbus instructions, which is not an affected part”, this AD requires replacing that text with “Any NLG lower torque link, eligible for installation, which is not an affected part”.

(3) This AD does not adopt the “Remarks” section of EASA AD 2024-0248.

(4) Where flagnote 01 in Appendix B of Airbus Service Bulletin A350-32-P057, Revision 01, dated December 12, 2024, specifies “PN 64072000-XX”, this AD requires replacing that text with “PN 6407A2000-XX”.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Nicholas Benson, Aviation Safety Engineer, FAA, 2200 South 216th St., Des Moines, WA 98198; phone: 206-231-3647; email: nicholas.h.benson@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) Airbus Service Bulletin A350-32-P057, Revision 01, dated December 12, 2024.

(ii) European Union Aviation Safety Agency (EASA) AD 2024-0248, dated December 18, 2024.

(3) For Airbus material identified in this AD, contact Airbus SAS, Airworthiness Office—EAL, Rond-Point Emile Dewoitine No: 2, 31700 Blagnac Cedex, France; telephone +33 5 61 93 36 96; fax +33 5 61 93 45 80; email continued-airworthiness.a350@airbus.com; website airbus.com.

(4) For EASA material identified in this AD, contact EASA, Konrad-Adenauer-Ufer 3, 50668 Cologne, Germany; telephone +49 221 8999 000; email ADs@easa.europa.eu. You may find this material on the EASA website at ad.easa.europa.eu.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on January 15, 2026.
Peter A. White,
Deputy Director, Integrated Certificate Management Division, Aircraft Certification Service.

[FR Doc. 2026-02095 Filed 1-30-26; 8:45 am]

BILLING CODE 4910-13-P